OFFICE OF THE UNITED STATES TRADE REPRESENTATIVE

[Docket Numbers USTR-2017-0009, USTR-2013-0013, USTR-2013-0009, USTR-2013-0011, USTR-2013-0004, USTR-2015-0018, USTR-2013-0007, USTR-2013-0014, and USTR-2013-0021]

Generalized System of Preferences (GSP): Notice Regarding a Hearing for Ongoing Country Practice Reviews of Bolivia, Ecuador, Georgia, Indonesia, Iraq, Thailand, and Uzbekistan and for the Ongoing Country Designation Review of Laos

AGENCY: Office of the United States Trade Representative.

ACTION: Notice of public hearing and request for comments.

SUMMARY: The Office of the United States Trade Representative (USTR) is announcing a hearing for the open country practice reviews for which USTR has not held hearings in 2018 regarding compliance with the GSP eligibility criteria of Bolivia, Ecuador, Georgia, Indonesia, Iraq, Thailand, and Uzbekistan. This review will focus on whether: (1) Bolivia, Georgia, Iraq, Thailand, and Uzbekistan are meeting the GSP eligibility criterion requiring that a GSP beneficiary country afford workers internationally recognized worker rights; (2) Ecuador is meeting the GSP eligibility criterion requiring a GSP beneficiary country to act in good faith in recognizing as binding or in enforcing applicable arbitral awards; and (3) Indonesia and Uzbekistan are meeting the GSP eligibility criterion requiring a GSP beneficiary to provide adequate protection of intellectual property rights. In addition, USTR is announcing a hearing for the ongoing country designation review of Laos. This review will focus on whether Laos meets all the GSP eligibility criteria and should be newly designated as a GSP beneficiary. This notice includes the schedule for submission of public comments and a public hearing.

DATES: November 13, 2018 at midnight EDT: Deadline for submission of comments, pre-hearing briefs, and requests to appear at the November 29, 2018 public hearing. November 29, 2018: The GSP Subcommittee of the Trade Policy Staff Committee (TPSC) will convene a public hearing on the GSP country practice reviews of Bolivia, Ecuador, Georgia, Indonesia, Iraq, Thailand, and Uzbekistan and the country designation review of Laos in Rooms 1 and 2, 1724 F Street NW, Washington, DC 20508, beginning at 10:00 a.m. December 17, 2018 at midnight EDT: Deadline for submission of post-hearing briefs.

ADDRESSES: USTR strongly prefers electronic submissions made through the Federal Rulemaking Portal: https://www.regulations.gov. Follow the instructions for submitting comments below using the docket number for the appropriate individual country review. For alternatives to on-line submissions, please contact Lauren Gamache at 202-395-2974 or gsp@ustr.eop.gov.

FOR FURTHER INFORMATION CONTACT: Lauren Gamache, Director for GSP, at (202) 395-2974 or gsp@ustr.eop.gov.

SUPPLEMENTARY INFORMATION:

A. Background

The GSP program provides for the duty-free importation of designated articles when imported from designated beneficiary developing countries. The GSP program is authorized by Title V of the Trade Act of 1974 as amended (19 U.S.C. 2461-2467), and is implemented in accordance with Executive Order 11888 of November 24, 1975, as modified by subsequent Executive Orders and Presidential Proclamations.

The GSP Subcommittee of the TPSC will hold a hearing on November 29, 2018 for the following cases:

Country | Basis for petition | Petitioner | Docket No.
Bolivia | worker rights and child labor | USTR | USTR-2017-0009
Ecuador | arbitral awards | Chevron Corporation | USTR-2013-0013
Georgia | worker rights | AFL-CIO | USTR-2013-0009
Indonesia | intellectual property rights | International Intellectual Property Alliance (IIPA) | USTR-2013-0011
Iraq | worker rights | AFL-CIO | USTR-2013-0004
Laos | eligibility | Laos | USTR-2013-0021
Thailand | worker rights | AFL-CIO | USTR-2015-0018
Uzbekistan | worker rights and child labor | ILRF | USTR-2013-0007
Uzbekistan | intellectual property rights | IIPA | USTR-2013-0014

B. Notice of Public Hearing

The GSP Subcommittee will hold a hearing on November 29, 2018, beginning at 10:00 a.m., to receive information regarding the country practice reviews of Bolivia, Ecuador, Georgia, Indonesia, Iraq, Thailand, and Uzbekistan, and the country designation review of Laos. The hearing will be held in Rooms 1 and 2, 1724 F Street NW, Washington, DC 20508, and will be open to the public and to the press. A transcript of the hearing will be available on www.regulations.gov within approximately two weeks after the date of the hearing. All interested parties wishing to make an oral presentation at the hearing must submit, following the Requirements for Submissions below, the name, address, telephone number, and email address, if available, of the witness(es) representing their organization by midnight on November 13, 2018.

Requests to present oral testimony must be accompanied by a written brief or summary statement, in English. The GSP Subcommittee will limit oral testimony to five-minute presentations that summarize or supplement information contained in briefs or statements submitted for the record. The GSP Subcommittee will accept post-hearing briefs or statements if they conform to the requirements set out below and are submitted in English, by midnight on December 17, 2018.

Parties not wishing to appear at the public hearing may submit pre-hearing and post-hearing briefs or comments by these deadlines. In order to be assured of consideration, you must submit all post-hearing briefs or statements by the December 17, 2018 deadline to the relevant docket listed below via www.regulations.gov.

C. Requirements for Submissions

Submissions in response to this notice (including requests to testify, written comments, and pre-hearing and post-hearing briefs) must be submitted by the applicable deadlines set forth in this notice. All submissions must be made in English and submitted electronically via http://www.regulations.gov, using the appropriate docket number. We will not accept hand-delivered submissions. To make a submission using http://www.regulations.gov, enter the appropriate docket number in the “search for” field on the home page and click “search.” The site will provide a search-results page listing all documents associated with this docket. Find a reference to this notice by selecting “notice” under “document type” in the “filter results by” section on the left side of the screen and click on the link entitled “comment now.” The regulations.gov website offers the option of providing comments by filling in a “type comment” field or by attaching a document using the “upload file(s)” field. The GSP Subcommittee prefers that submissions be provided in an attached document and, in such cases, that parties note “see attached” in the “type comment” field on the online submission form. Include the following bold and underlined text at the beginning of the submission, or on the first page (if an attachment): (1) “[Insert Country] Country Practice Review”; (2) the subject matter; and (3) whether the document is a “Written Comment,” “Notice of Intent to Testify,” “Pre-hearing brief,” or a “Post-hearing brief.” Submissions should not exceed thirty single-spaced, standard letter-size pages in twelve-point type, including attachments. Any data attachments to the submission should be included in the same file as the submission itself, and not as separate files.

Each submitter will receive a tracking number upon completion of the submissions procedure at http://www.regulations.gov. The tracking number is your confirmation that the submission was received into regulations.gov. We are not able to provide technical assistance for the regulations.gov website. We may not consider submissions that are not made in accordance with these instructions. If you are unable to provide submissions as requested, please contact Lauren Gamache at 202-395-2974 or gsp@ustr.eop.gov to arrange for an alternative method of transmission.

D. Business Confidential Submissions

If a submission contains business confidential information (BCI), you must certify that the information is business confidential and that you would not customarily release the information to the public. You must clearly indicate that information is BCI by marking “BUSINESS CONFIDENTIAL” at the top and bottom of the cover page and each succeeding page that contains BCI, and indicating, via brackets, the specific information that is BCI. Additionally, you should include “Business Confidential” in the “type comment” field. For any submission containing BCI, you also must submit a separate non-confidential version (i.e., not as part of the same submission with the confidential version), indicating where you have redacted BCI. We will post the non-confidential version in the docket for public inspection.

E. Public Viewing of Review Submissions

We will post all submissions other than BCI for public viewing in the appropriate docket number at http://www.regulations.gov upon completion of processing, usually within two weeks of the relevant due date or date of the submission.

Erland Herfindahl,
Deputy Assistant U.S. Trade Representative for the Generalized System of Preferences, Office of the U.S. Trade Representative.

[FR Doc. 2018-22374 Filed 10-12-18; 8:45 am]

BILLING CODE 3290-F9-P